NATIONAL CREDIT UNION ADMINISTRATION

Privacy Act Systems of Records Notice

AGENCY: National Credit Union Administration.

ACTION: Notification of revisions of systems of records.

SUMMARY: The National Credit Union Administration (NCUA) is revising its Privacy Act Systems of Records (SOR) Notice. As part of the periodic review of agency regulations, staff determined the need to update and revise its SOR Notice. The review identified several changes requiring revision to the SOR Notice including changes in recordkeeping practices, agency organizational changes, and new systems of records not previously identified. In some systems, NCUA staff identified minor changes to routine uses. No new exemptions from provisions of the Privacy Act of 1974 were required. The revisions reflect the changes, clarify, and update the SOR Notice.

DATES: Effective Date: The revised system notices will be effective without further notice on January 26, 2007 unless comments received before that date cause a contrary decision. Based on NCUA's review of comments received, if any, NCUA will publish a new final notice if it determines to make changes to the system notices.

FOR FURTHER INFORMATION CONTACT: Sheila A. Albin, Associate General Counsel for Operations & Senior Agency Official for Privacy, or Linda Dent, Staff Attorney, Division of Operations, Office of General Counsel, at the National Credit Union Administration, 1775 Duke Street, Alexandria, Virginia, 22314, or telephone: (703) 518-6540.

SUPPLEMENTARY INFORMATION: The Privacy Act of 1974 requires, inter alia, that all federal agencies publish a notice of any system of records maintained about individuals and, further, requires that the notice provide certain information. NCUA last published a revised notice in 2000. 65 FR 3486 (January 21, 2000). The Privacy Act, as well as guidance from the Office of Management and Budget, provides for periodic review and updating of an agency's SOR Notice, and NCUA's privacy regulation also requires review and revision as necessary to its SOR Notice. 12 CFR part 792, subpart E.

NCUA is adding four new systems to its SOR Notice: Personal Identity Verification (PIV) Files, Leave Transfer Program Case Files, AMAC Contract Employee Pay and Leave Records, and Bank of America Electronic Access Government Ledger System. While the previous System 6 is described as containing information used to create employee identification cards, the new PIV Files, identified as System 16 is significantly different in that it specifically describes a new system being established to meet the requirements of Homeland Security Presidential Directive 12.

NCUA is also making several relatively minor changes to existing systems to correct and update information. For example, regarding storage, access, and retrieval, many of the existing systems now provide for electronic storage and retrieval in addition to maintaining hard copies of records and, as such, have additional security measures restricting access. In addition, the system managers or the titles for the system managers have changed in some instances due to organization changes within the agency or changes in duties for employee positions. In addition, Appendix B is revised to reflect that NCUA now has five rather than six regional offices and addresses of two of the regional offices have changed, as well as the states for which each regional office has jurisdiction.

With these changes, NCUA's revised SOR Notice, along with the appendices, are published in their entirety below.

National Credit Union Administration

Systems of Records Notice

List of Systems

1. Employee Suitability and Security Investigations Containing Adverse Information

2. Grievance Records

3. Payroll Records System

4. Travel Advance and Voucher Information System

5. Unofficial Personnel and Employee Development/Correspondence Records

6. Emergency Information (Employee) File

7. Employee Injury File

8. Investigative Reports Involving Any Crime, Suspected Crime or Suspicious Activity Against a Credit Union

9. Freedom of Information Act and Privacy Act Requests and Invoices

10. Liquidating Credit Union Records

11. Office of Inspector General (OIG) Investigative Records

12. Consumer Complaints Against Federal Credit Unions

13. Litigation Case Files

14. Bank of America Electronic Access Government Ledger System (EAGLS)

15. Contract Employee Pay and Leave Records

16. Leave Transfer Files

17. Personal Identity Verification Files

Appendix A-Standard Routine Uses Applicable to NCUA Systems of Records

Appendix B-List of Regional Offices with Addresses and States Covered by Each Region

NCUA-1

System Name:

Employee Suitability and Security Investigations Containing Adverse Information

System location:

Office of Human Resources, National Credit Union Administration, 1775 Duke Street, Alexandria, VA. 22314-3428.

Categories of individuals covered by this system:

NCUA employees on whom a routine Office of Personnel Management (OPM) background investigation has been conducted, the results of which contain adverse information.

Categories of records in the system:

Arrest records and/or information on moral character, integrity, or loyalty to the United States.

Authority for maintenance of the system:

Records maintained pursuant to OPM requirements. A separate notice is published because these records are maintained separately to provide extraordinary safeguards against unwarranted access and disclosures.

Purpose:

The information in this system of records is used to assist in the determination of the suitability of the effected individual for initial or continued NCUA employment, or other necessary action.

Routine uses of records maintained in the system, including categories of users and the purposes of such uses:

(1) Records are reviewed by the NCUA Security Officer (the Director of Human Resources). If the records are determined to be of a substantive nature, they are referred to the appropriate Associate Regional Director or Office Director for whatever action, if any, is deemed necessary. (2) Standard routine uses as set forth in Appendix A.

Policies and practices for storing, retrieving, accessing, retaining, and disposing of records in the system:

Storage:

Records are maintained on paper hard copy.

Retrievability:

Records are indexed by name.

Safeguards:

Records are maintained in a locked file cabinet accessible only to the Security Officer and his/her designated assistant.

Retention and disposal:

If the investigation is favorable to the employee, the record is destroyed. If the investigation uncovers adverse information, the record is held for two years.

System manager(s) and address:

Security Officer, Office of Human Resources, National Credit Union Administration, 1775 Duke Street, Alexandria, VA 22314-3428.

Notification procedure:

An individual may inquire as to whether the system contains a record pertaining to the individual by addressing a request in person or by mail to the system manager listed above. If there is no record on the individual, the individual will be so advised.

Record access procedure:

Upon request, the system manager will set forth the procedures for gaining access to available records.

Contesting record procedures:

Requests to amend or correct a record should be directed to the system manager listed above. Requesters should also reasonably identify the record, specify the information they are contesting, state the corrective action sought and the reasons for the correction, along with supporting justification showing why the record is not accurate, timely, or complete.

Record source categories:

OPM Security Investigations Index, FBI headquarters investigative files, fingerprint index of arrest records, Defense Central Index of Investigations, employers within the last five years, listed references, and personal associates, school registrars and responsive law enforcement agencies.

Systems exempted from certain provisions of the Act:

In addition to any exemption to which this system is subject by Notices published by or regulations promulgated by the OPM, the system is subject to a specific exemption pursuant to 5 U.S.C. 552a(k)(5) to the extent that disclosures would reveal a source who furnished information under an express promise of confidentiality, or prior to September 27, 1975, under an express or implied promise of confidentiality.

NCUA-2

System name:

Grievance Records

System location:

Office of Human Resources, National Credit Union Administration, 1775 Duke Street, Alexandria, Virginia 22314-3428.

Categories of individuals covered by the system:

Current or former Federal employees who have submitted grievances with NCUA in accordance with part 771 of the OPM's regulations. These case files contain all documents related to the grievance, including statements of witnesses, reports of interviews and hearings, examiners' findings and recommendations, a copy of the original and final decision with related correspondence and exhibits.

Authority for maintenance of the system:

5 U.S.C. 1302, 3301, and 3302, E.O. 10577, 3 CFR 1954-1958 Comp., p. 218; E.O. 10987; 3 CFR 1959-1963 Comp., p. 519.

Purpose:

The information in this system is used in the Agency's formal grievance process.

Routine uses of records maintained in the system, including categories of users and the purposes of such uses:

(1) Information is used by the appropriate Federal, State, or local agency responsible for investigating, prosecuting, enforcing, or implementing a statute, rule, regulation, or order where the disclosing agency becomes aware of an indication of a violation or potential violation of civil or criminal law or regulations. (2) Information is used by any source from which additional information is requested in the course of processing a grievance to the extent necessary to identify the individual, inform the source of the purpose(s) of the request, and identify the type of information requested. (3) Information is used by a Federal agency in response to its request in connection with the hiring or retention of an employee, the issuance of a security clearance, the conducting of a security or suitability investigation of an individual, the classifying of jobs, the letting of a contract, or the issuance of a license, grant, or other benefit by the requesting agency, to the extent that the information is relevant and necessary to the requesting agency's decision on the matter. (4) Information is used by the congressional office from the record of an individual in response to an inquiry from that congressional office made at the request of that individual. (5) Information is used by another Federal agency or by a court when the government is party to a judicial proceeding before the court. (6) Information is used by the National Archives and Records Administration (General Services Administration) in records management inspections conducted under authority of 44 U.S.C. 2904 and 2906. (7) Information is used by NCUA in the production of summary descriptive statistics and analytical studies in support of the function for which the records are collected and maintained, or for related work force studies. While published statistics and studies do not contain individual identifiers, in some instances, the selection of elements of data included in the study may be structured in such a way as to make the data individually identifiable by inference. (8) Information is used by officials of the Office of Personnel Management, the Merit Systems Protection Board, including the Office of the Special Counsel, the Federal Labor Relations Authority and its General Counsel, or the Equal Employment Opportunity Commission when requested in performance of their authorized duties. (9) Information (that is relevant to the subject matter involved in a pending judicial or administrative proceeding) is used to respond to a request for discovery or for appearance of a witness. (10) Information is used by officials of labor organizations reorganized under the Civil Service Reform Act when relevant and necessary to their duties of exclusive representation concerning personnel policies, practices, and matters affecting work conditions. (11) Standard routine uses as set forth in appendix A.

Policies and practices for storing, retrieving, accessing, retaining, and disposing of records in the system:

Storage:

Records are maintained in file folders.

Retrievability:

Records are retrievable by the names of the individuals on whom they are maintained.

Safeguards:

Records are maintained in lockable metal filing cabinets to which only authorized personnel have access.

Retention and disposal:

Records are disposed of three (3) years after closing of the case. Disposal is by shredding or burning.

System manager(s) and address:

Director, Office of Human Resources, National Credit Union Administration, 1775 Duke Street, Alexandria, Virginia 22314-3428.

Notification procedure:

An individual may inquire as to whether the system contains a record pertaining to the individual by addressing a request in person or by mail to the system manager listed above. If there is no record on the individual, the individual will be so advised.

Record access procedures:

Upon request, the system manager will set forth the procedures for gaining access to available records.

Contesting record procedures:

Request to amend or correct a record should be directed to the system manager listed above.

Record source categories:

Individual on whom the record is maintained; testimony of witness; agency officials; related correspondence from organization or persons.

NCUA-3

System name:

Payroll Records System.

System location:

(1) Office of the Chief Financial Officer, National Credit Union Administration, 1775 Duke Street, Alexandria, Virginia 22314-3428. (2) General Services Administration, Region VI, Kansas City, Missouri. (3) Regional offices.

Categories of individuals covered by the system:

Employees of NCUA.

Categories of records in the system:

Salary and related payroll data, including time and attendance information.

Authority for maintenance of the system:

5 U.S.C. 703; 44 U.S.C. 3301.

Purpose:

This system documents time and attendance and ensures that employees receive proper compensation.

Routine uses of records maintained in the system, including categories of users and the purposes of such uses:

(1) Information is used to ensure proper compensation to all NCUA employees and to formulate financial reports and plans used within the agency or is sent to the General Services Administration (GSA). (2) Also, information is used to document time worked and provide a record of attendance to support payment of salaries and use of annual, sick, and nonpaid leave. (3) Users of the time and attendance information include the employee's supervisor, the office's timekeeper the payroll officer, and the GSA National Payroll Center in Kansas City, Missouri. (4) Further information in this system is used to make reports to state and local taxing authorities. (5) The names, social security numbers, home addresses, dates of birth, dates of hire, quarterly earnings, employer identifying information, and State of hire of employees may be disclosed to the Office of Child Support Enforcement, Administration for Children and Families, Department of Health and Human Services for the purpose of locating individuals to establish paternity, establish or modify orders of child support, identify sources of income and for other child support enforcement actions as required by the Personal Responsibility and Work Opportunity Reconciliation Act (Welfare Reform Law, Pub. L. 104-193). (6) Standard routine uses as set forth in appendix A.

Policies and practices for storing, retrieving, accessing, retaining, and disposing of records in the system:

Storage:

Records are maintained in file folders and electronically on computer systems.

Retrievability:

Records are retrieved by name or social security number.

Safeguards:

Records are maintained in secured offices, accessible by written authorization only.

Retention and disposal:

Records are retained and disposed of in accordance with GSA policy.

System manager(s) and address:

Primary:

Payroll Officer, Office of the Chief Financial Officer, National Credit Union Administration, 1775 Duke Street, Alexandria, Virginia 22314-3428.

Secondary:

Office Timekeepers, National Credit Union Administration, Central Office (1775 Duke Street, Alexandria, Virginia 22314-3428) and Regional Offices (see Appendix B for Regional Offices' addresses).

Notification procedure:

An individual may inquire as to whether the system contains a record pertaining to the individual by addressing a request in person or by mail to the system manager listed above. If there is no record on the individual, the individual will be so advised.

Record access procedures:

Upon request, the system manager will set forth the procedures for gaining access to available records.

Contesting record procedures:

Requests to amend or correct a record should be directed to the system manager listed above.

Record source categories:

Information is primarily obtained from the individual whom the record concerns, the Office of Personnel Management, and the GSA. Also, time and attendance information is prepared and submitted by the timekeeper in a given employee's office.

NCUA-4

System name:

Travel Advance and Voucher Information System.

System location:

Office of the Chief Financial Officer, National Credit Union Administration, 1775 Duke Street, Alexandria, Virginia 22314-3428. Some relocation files are maintained in the Office of Administration, at the same address.

Categories of individuals covered by the system:

All NCUA employees who have traveled or relocated in the course of performing their duty and who have been reimbursed for the expense of such travel.

Categories of records in the system:

This system contains information from the following forms: Travel Vouchers (NCUA 1012), Relocation Travel Order (NCUA 1617) Application for Travel Advance (NCUA 1371), and Travel Voucher Cover Sheet (NCUA 1364), Agreement to Remain in Federal Service (NCUA 1030), Statement of Difference (NCUA 1310), Repayment of Travel Advance (NCUA 1372).

Authority for maintenance of the system:

5 U.S.C. 5701-5752; Executive Order 11609 (July 22, 1971); Executive Order 11012 (March 27, 1962); 5 U.S.C. 4101-4118; Federal Travel Regulations, FPMR 101-7, Chapter 2, Section 6.3.

Purpose

The purpose of this system is to provide documentary support for reimbursements to employees.

Routine uses of records maintained in the system, including categories of users and the purposes of such uses:

(1) Records are used to provide documentary support for reimbursements to employees for on-the-job and relocation travel expenses. (2) Users of the information include first and second line supervisors, NCUA accounting staff, and budgeting staff. (3) Standard routine uses as set forth in appendix A.

Policies and practices for storing, retrieving, accessing, retaining, and disposing of records in the system:

Storage:

Records are stored in paper hard copy form and in a computer system.

Retrievability:

Records are retrievable by social security number.

Safeguards

The paper hard copy records are maintained in secured offices. The computer disc is located in a secured office and its access is limited to user employees who know the logical identification access number.

Retention and disposal

Records are maintained in the Division of Accounting Services until the annual GAO audit is completed. After the audit, the paper hard copy records are stored in a Federal Records Center for a minimum of three years and the computer disc is purged.

System manager(s) and address:

Director, Accounting Services Division, Office of the Chief Financial Officer, National Credit Union Administration, 1775 Duke Street, Alexandria, Virginia 22314-3428.

Notification procedure:

An individual may inquire as to whether the system contains a record pertaining to the individual by addressing a request in person or by mail to the system manager listed above. If there is no record on the individual, the individual will be so advised.

Record access procedures:

Upon request, the system manager will set forth the procedures for gaining access to available records.

Contesting record procedures:

Requests to amend or correct a record should be directed to the system manager listed above.

Record source categories:

Records are prepared by the individual whom the record concerns.

NCUA-5

System name:

Unofficial Personnel and Employee Development and Correspondence Records

System location:

For employees of a regional office, the system is located at the regional office where the employee is assigned, National Credit Union Administration, (See appendix B for addresses of Regional Offices). For employees of the central office, the system is located at the assigned office, National Credit Union Administration, 1775 Duke Street, Alexandria, Virginia, 22314-3428.

Categories of individuals covered by the system:

NCUA employees.

Categories of records in the system:

The system contains information on NCUA employees assigned to the particular regional or central office related to some or all of the following areas: name; address; telephone number; birthdate; ethnicity and gender codes; cu grade; employee identification number; work performance appraisals; district management; chartering efforts; reactions from credit union officials; individual development plans; supply and equipment information; for new examiners, bi-weekly training reports, training progress reports and training evaluations; work product samples; suggestions; awards; data on time and attendance, leave and pay; memos or notations and evaluations by superiors or others; benefit elections and designations of beneficiaries; and copies of personnel, travel and grievance records.

Authority for maintenance of the system:

5 U.S.C. 301; 44 U.S.C. 3301.

Purpose:

Information is used for recording time, attendance and leave, controlling equipment inventories, contacting employees; evaluating and training staff, evaluating work progress; and for general administrative matters. Information may also be used to determine eligibility for retention or promotion.

Routine uses of records maintained in the system, including categories of users and the purposes of such uses:

(1) The information in this system may be disclosed to the United States Office of Personnel Management, the Merit Systems Protection Board, the Office of Special Counsel, the Equal Employment Opportunity Commission, the Federal Labor Relations Authority, the General Services Administration or an arbitrator or agent, to the extent the disclosure is needed to carry out the government-wide personnel management, investigatory, adjudicatory and appellate functions within their respective jurisdictions, or to obtain information. (2) The information in this system may be disclosed to federal, state, local or professional licensing boards or Boards of Medical Examiners, when such records reflect on the qualifications of a licensed individual or an individual seeking to be licensed. (3) This information is used to generate a telephone directory for all NCUA employees. (4) Standard routine uses as set forth in appendix A.

Policies and practices for storing, retrieving, accessing, retaining, and disposing of records in the system:

Storage:

Records are maintained on paper hard copy as well as electronically on computer systems or other database applications.

Retrievability:

Records are indexed alphabetically by name or Social Security number.

Safeguards:

Physical security consists of maintaining records in locked metal file cabinets within secured offices and password protected computer systems.

Retention and disposal:

Current and relevant information is maintained generally for a period of two years. Obsolete material is maintained in the same file cabinets and is periodically purged and destroyed after two years or upon employees' separation.

System manager(s) and address:

For employees assigned to a regional office the system manager is the Director of Management Services, Regional Office, National Credit Union Administration. (See appendix B for addresses of Regional Offices). For employees assigned to an office within the central office, the system manager is the Office Director, National Credit Union Administration, 1775 Duke Street, Alexandria, Virginia 22314.

Notification procedure:

An individual may inquire as to whether the system contains a record pertaining to the individual by addressing a request in person or by mail to the Regional Director where the system is located. If there is no record on the individual, the individual will be so advised.

Record access procedures:

Upon request, the Regional Director or Office Director will set forth the procedures for gaining access to available records.

Contesting record procedures:

Requests to amend or correct a record should be directed to the Regional Director or Office Director.

Record source categories:

Sources may include the individual whom the record concerns, supervisors of the individual, fellow employees, credit union officials, administrative officer or office assistant, and other persons whom the individual may encounter in the course of work performance. For payroll- and personnel-related information, the sources may include the General Service Administration and Office of Human Resources.

NCUA-6

System name:

Emergency Information (Employee) File.

System location:

For employees of a regional office, the system is located at the regional office where the employee is assigned, National Credit Union Administration, (See appendix B for addresses of Regional Offices). For employees of the central office, the system is located at the assigned office, National Credit Union Administration, 1775 Duke Street, Alexandria, Virginia, 22314-3428.

Categories of individuals covered by the system:

NCUA employees; individuals designated by employees as emergency contacts; family members of employees.

Categories of records in the system:

This system contains personal information about NCUA employees, such as height, weight, hair color, eye color, current address, and telephone number, and in some locations may also have a personal cell telephone number and personal email address. Also, this system identifies the individual to contact in case of an emergency involving the employee.

Authority for maintenance of the system:

5 U.S.C. 301.

Purpose:

The information in this system is used to maintain employee identification information in case of emergency.

Routine uses of records maintained in the system, including categories of users and the purposes of such uses:

(1) The information on the individual to contact in cases of emergency may be disclosed in case of emergency to any federal, state or local authority responding to the emergency. (2) In the event of an emergency, the information may be disclosed to the individual listed as a contact in case of emergency, or other person identified as a family member of the employee. This list is updated as necessary. The listed information is used to contact the employee if there is a national emergency. (3) Standard routine uses as set forth in appendix A.

Policies and practices for storing, retrieving, accessing, retaining, and disposing of records in the system:

Storage:

Records are stored on paper hard copy and may also be stored electronically.

Retrievability:

Records are indexed alphabetically by name and, where stored electronically as part of a computer system, are subject to electronic safeguards.

Safeguards:

Records are maintained in locked file drawers or stored electronically as part of a computer database.

Retention and disposal:

Records are disposed of after an employee is separated from the agency.

System manager(s) and address:

(1) For employees of a regional office, the system manager is the regional director of the regional office where the employee is assigned, National Credit Union Administration, (See appendix B for addresses of Regional Offices). For employees of the central office, the system manager is the Office Director of the assigned office, National Credit Union Administration, 1775 Duke Street, Alexandria, Virginia, 22314-3428. (2) Security Officer, Administrative Office, at the same address above.

Notification procedure:

An individual may inquire as to whether the system contains a record pertaining to the individual by addressing a request in person or by mail to the appropriate system manager listed above. If there is no record on the individual, the individual will be so advised.

Record access procedures:

Upon request, the system manager will set forth the procedures for gaining access to available records.

Contesting record procedures:

Requests to amend or correct a record should be directed to the appropriate system manager listed above.

Record source categories:

Individual on whom the record is maintained.

NCUA-7

System name:

Employee Injury File.

System location:

Office of Human Resources, National Credit Union Administration, 1775 Duke Street, Alexandria, Virginia 22314-3428.

Categories of individuals covered by the system:

Any employee who has sustained a job-related injury or disease.

Categories of records in the system:

Copies of reports submitted by an individual who has sustained a job-related injury or disease. Copies of any further claims made regarding the same injury or disease or any other material required for documenting and adjudicating the claim.

Authority for maintenance of the system:

Occupational Safety and Health Act of 1970, 29 CFR part 1960.

Purpose:

This information is maintained to provide data to the Department of Labor, when needed, for adjudication of a claim, and to prepare reports as required by the Department of Labor.

Routine uses of records maintained in the system, including categories of users and the purposes of such uses:

(1) Information is disclosed to the Department of Labor. (2) Standard routine use as set forth in Appendix A.

Policies and practices for storing, retrieving, accessing, retaining, and disposing of records in the system:

Storage:

Records are stored on paper in file cabinets.

Retrievability:

Records are indexed by NCUA Region, and date of injury.

Safeguards:

Records are maintained in locked file drawer.

Retention and disposal:

Records are disposed five years after the year to which they relate.

System manager(s) and address:

Director, Office of Human Resources, National Credit Union Administration, 1775 Duke Street, Alexandria, Virginia 22314-3428.

Notification procedure:

An individual may inquire as to whether the system contains a record pertaining to the individual by addressing a request in person or by mail to the system manager listed above. If there is no record on the individual, then individual will be so advised.

Record access procedures:

Upon request, the system manager will set forth the procedures for gaining access to available records.

Contesting record procedures:

Requests to amend or correct a record should be directed to the system manager listed above.

Record source categories:

Individual on whom the record is maintained; superiors of individual; individual's physician; hospital attending individual; Department of Labor.

NCUA-8

System name:

Investigative Reports Involving Any Crime, Suspected Crime or Suspicious Activity Against A Credit Union.

System location:

Office of General Counsel, National Credit Union Administration, 1775 Duke Street, Alexandria, VA 22314-3428. Computerized records of Suspicious Activity Reports (SAR), with status updates, are managed by the Financial Crimes Enforcement Network (FinCEN), Department of the Treasury, pursuant to a contractual agreement, and are stored in Detroit, Michigan. Authorized personnel at NCUA's Central Office and regional offices have on-line access to the computerized database managed by FinCEN through individual work stations linked to the database central computer.

Categories of individuals covered by the system:

Directors, officers, committee members, employees, agents, and persons participating in the conduct of the affairs of federally insured credit unions who are reported to be involved in suspected criminal activity or suspicious financial transactions and are referred to law enforcement officials; and other individuals who have been involved in irregularities, violations of law, or unsafe or unsound practices referenced in documents received by the NCUA in the course of exercising its supervisory functions.

Categories of records in the system:

Inter- and intra-agency correspondence, memoranda and reports. The SAR contains information identifying the credit union involved, the suspected person, the type of suspicious activity involved, and any witnesses.

Authority for maintenance of the system:

12 U.S.C. 1786 and 1789.

Purpose(s):

The overall system serves as a NCUA repository for investigatory or enforcement information related to its responsibility to examine and supervise federally insured credit unions. The system maintained by FinCEN serves as the database for the cooperative storage, retrieval, analysis, and use of information relating to Suspicious Activity Reports made to or by the NCUA Board, the Federal Reserve Board, the Office of the Comptroller of the Currency, the Federal Deposit Insurance Corporation, the Office of Thrift Supervision, (collectively, the federal financial regulatory agencies), and FinCEN to various law enforcement agencies for possible criminal, civil, or administrative proceedings based on known or suspected violations affecting or involving persons, financial institutions, or other entities under the supervision or jurisdiction of such federal financial regulatory agencies.

Routine uses of records maintained in the system, including categories of users, and the purposes of such uses:

Information in these records may be used to: (1) Determine if any further agency action should be taken. (2) Provide the federal financial regulatory agencies and FinCEN with information relevant to their operations; (3) Disclose information to third parties during the course of an investigation to the extent necessary to obtain information pertinent to the investigation; (4) With regard to formal or informal enforcement actions; release information pursuant to 12 U.S.C. 1786(s), which requires the NCUA Board to publish and make available to the public final orders and written agreements, and modifications thereto; and (5) Standard routine uses as set forth in Appendix A.

Policies and practices for storing, retrieving, accessing, retaining, and disposing of records in the system:

Storage:

The records will be maintained in electronic data processing systems and paper files.

Retrievability:

Computer output and file folders are retrievable by indexes of data fields, including name of the credit union, NCUA Region, and individuals' names.

Safeguards:

Paper records and word processing discs are stored at the NCUA in lockable metal file cabinets. The database maintained by FinCEN complies with applicable security requirements of the Department of the Treasury. On-line access to the information in the database is limited to authorized individuals who have been designated by each federal financial regulatory agency and FinCEN, and each such individual has been issued a nontransferable identifier or password.

Retention and disposal:

Records are maintained indefinitely.

System manager(s) and address:

General Counsel, NCUA, 1775 Duke Street, Alexandria, VA 22314-3428.

Notification procedure:

Inquiries should be sent to the System Manager as noted above.

Record access procedures:

Same as “Notification procedure” above.

Contesting records procedures:

Same as “Notification procedure” above.

Record source categories:

Information received by the NCUA Board from various sources, including, but not limited to law enforcement and other agency personnel involved in sending inquiries to the NCUA Board, NCUA examiners, credit union officials, employees, and members. The information maintained by FinCEN is compiled from SAR and related historical and updating forms compiled by financial institutions, the NCUA Board, and the other federal financial regulatory agencies for law enforcement purposes.

System exempted from certain provisions of the Act:

This system is exempt from 5 U.S.C. 552a(c)(3), (d)(1), (d)(2), (d)(3), (d)(4), (e)(1), (e)(4) (G), (H) and (I), and (f) of the Privacy Act pursuant to 5 U.S.C. 552a(k)(2).

NCUA-9

System name:

Freedom of Information and Privacy Act Requests and Invoices

System location:

For requests processed by the central office, the system is located at the Office of General Counsel, National Credit Union Administration, 1775 Duke Street, Alexandria, Virginia 22314-3428. For requests processed by the Office of Inspector General, the system is located in the Office of the Inspector General, National Credit Union Administration, 1775 Duke Street, Alexandria, Virginia 22314.

Categories of individuals covered by the system:

This system of records includes information pertaining to any Freedom of Information Act (FOIA) or Privacy Act requester.

Categories of records in the system:

The system may contain the requester's name, company name or organization, address, date of request, invoice number, amount due, phone number, social security or tax identification number, description of information requested and documents located or result of search for documents.

Authority for maintenance of the system: 12 U.S.C. 1789, 5 U.S.C. 552, 5 U.S.C. 552a.

Purpose:

Records in this system are used to process requests received. These records may be used by the NCUA for collection of the amount due, as well as to identify subsequent requests made by the same individuals.

Routine uses of records maintained in the system, including categories of users and the purposes of such uses:

(1) The information may be disclosed to a consumer reporting agency. The information disclosed to a consumer reporting agency is limited to: (a) Information necessary to establish the identity of the individual, including name, address, and social security or taxpayer identification number; (b) the amount, status, and history of the claim; and (c) the agency or program under which the claim arose.

Policies and practices for storing, retrieving, accessing, retaining, and disposing of records in the system:

Storage:

Records are maintained on paper hard copy and computer disk.

Retrievability:

Records in this system are retrievable by requester's name, company name or organization, date of request, category of requester, request number, or invoice number.

Safeguards:

Physical security consists of storing records on a password protected computer database and a hard copy secured in a metal file cabinet which is accessible only to those individuals responsible for processing requests and collecting outstanding payments.

Retention and disposal:

Records are retained for various periods depending on the determination made on the request, but normally no greater than six years following the year in which the request was processed.

System manager(s) and address:

For requests processed at the central office, the system manager is the Freedom of Information Act Officer, Office of General Counsel, National Credit Union Administration, 1775 Duke Street, Alexandria, Virginia 22314. For requests processed by the Office of Inspector General, the system manager is the Inspector General, National Credit Union Administration, 1775 Duke Street, Alexandria, Virginia 22314.

Notification procedure:

An individual may inquire as to whether the system contains a record pertaining to the individual by addressing a request in person or by mail to the system manager listed above. If there is no record on the individual, the individual will be so advised.

Record access procedures:

Upon request, the system manager will set forth the procedures for gaining access to available records.

Contesting record procedures:

Requests to amend or correct a record should be directed to the system manager listed above.

Record source categories:

The sources of records for this system of records are the FOIA and Privacy Act request files.

NCUA-10

System name:

Liquidating Credit Union Records System.

System location:

Information within this system of records is located at the Asset and Management Assistance Center (AMAC) 4807 Spicewood Springs Road, Suite 5100, Austin, Texas 78759.

Categories of individuals covered by the system:

Members, employees and creditors of liquidating federally-insured credit unions.

Categories of records in the system:

Share and account records; personal data regarding income and debts; payment or employment history; accounts payable records.

Authority for maintenance of the system:

12 U.S.C. 1787.

Purpose:

The information in this system is used to determine insurance, collect loan amounts due and for all purposes necessary to close out the affairs of the liquidated credit union.

Routine uses of records maintained in the system, including categories of users and the purposes of such uses:

(1) Information is used for payment of insurance claims to shareholders in liquidating federally-insured credit unions. (2) Information is used in the collection of outstanding loans, which may include referral of information to third party servicer providers or potential purchasers of the loans. (3) Information is used for all purposes necessary to close out the affairs of the liquidated credit union and carry out all appropriate liquidation-related functions of NCUA. (4) Information may be disclosed to address locators or a surety company in pursuit of a fidelity bond claim. (5) Information on unclaimed insured shares is included in a database on the NCUA web site after other efforts to locate account holders have failed. (6) Information may be disclosed to the appropriate federal, state or local government agency, such as the Internal Revenue Service, if required by law or regulation or upon appropriate request. (7) Standard routine uses as set forth in Appendix A.

Policies and practices for storing, retrieving, accessing, retaining, and disposing of records in the system:

Storage:

This information is maintained on computer databases and hard copy. Copies of share and loan documents, incoming payments, and loan portfolios may also be maintained on microfilm copy.

Retrievability:

Information is indexed by name of individual and by name of closed insured credit union.

Safeguards:

Information is maintained in secured offices and in password protected computer databases.

Retention and disposal:

Information is maintained for six years following the appointment of the NCUA Board as liquidating agent of an insured credit union after which the system manager may destroy any records that the system manager determines are unnecessary unless directed not to do so by a court of competent jurisdiction or governmental agency or prohibited by law.

System manager(s) and address:

President, AMAC, 4807 Spicewood Springs Road, Suite 5100, Austin, Texas 78759.

Notification procedure:

An individual may inquire as to whether the system contains information pertaining to the individual by addressing a request in person or by mail to the system manager listed above. If there is no information on the individual, the individual will be so advised. Written inquiries should include name of inquirer, name of closed insured credit union of which inquirer was a member, and share and loan account numbers, if known.

Record access procedures:

Upon request, the system manager will set forth the procedures for gaining access to available information.

Contesting record procedures:

Requests to amend or correct a record should be directed to the system manager listed above. Record source categories: information is obtained from outside address locators; share and loan account files of the liquidating credit union of which the individual was a member; third party service providers; and credit bureaus.

NCUA-11

System name:

Office of Inspector General (OIG) Investigative Records.

System location:

Office of Inspector General, NCUA, 1775 Duke Street, Alexandria, VA 22314-3428.

Categories of individuals covered by the system:

Subjects of investigation, complainants, and witnesses referred to in complaints or actual investigative cases, reports, accompanying documents, and correspondence prepared by, compiled by, or referred to the OIG.

Categories of records in the system:

The system is comprised of paper files of all OIG and some predecessor Office of Internal Auditor reports, correspondence, cases, matters, cross-indices, memoranda, materials, legal papers, evidence, exhibits, data, and workpapers pertaining to all closed and pending investigations and inspections.

Authority for maintenance of the system:

The Inspector General Act of 1978, as amended, 5 U.S.C. App.3; 12 U.S.C. 1766.

Purpose:

Records in this system document the investigative work of the Office of Inspector General.

Routine uses of records maintained in the system, including categories of users and the purposes of such uses:

The National Credit Union Administration Office of Inspector General (OIG) may disclose information contained in a record in this system of records without the consent of the individual if the disclosure is compatible with the purpose for which the record was collected, under the following routine uses. (1) The OIG may disclose information from this system of records as a routine use to any public or private source, including a federal, state, or local agency maintaining civil, criminal, or other relevant enforcement information or other pertinent information, but only to the extent necessary for the OIG to obtain information from those sources relevant to an OIG investigation, audit, inspection, or other inquiry. (2) The OIG may disclose information from this system of records as a routine use to the Department of Justice to the extent necessary to obtain its legal advice on any matter relevant to an OIG investigation, audit, inspection, or other inquiry related to the responsibilities of the OIG. (3) The OIG may disclose information to other federal entities, such as other Offices of Inspector General, to the General Accounting Office, or to a private party with which the OIG or the NCUA has contracted or with which it contemplates contracting, for the purpose of auditing or reviewing the performance or internal management of the OIG's investigative program, or for performing any other functions or analyses that facilitate or are relevant to an OIG investigation, audit, inspection or other inquiry. Such contractor or private firm shall be required to maintain Privacy Act safeguards with respect to such information. (4) The OIG may disclose information from this system of records to any Federal, State, local, or foreign agency maintaining civil, criminal, or other relevant enforcement or other pertinent records, or to another public authority or professional organization, if necessary to obtain information relevant to an OIG decision concerning the retention of an employee or other personnel action (other than hiring), the retention of a security clearance, the letting of a contract, or the issuance or retention of a grant or other benefit. (5) The OIG may disclose information in this system to federal, state, local or professional licensing boards or Boards of Medical Examiners, when such records reflect on the qualifications of a licensed individual or an individual seeking to be licensed. (6) The OIG may disclose information from this system of records for the purposes set forth in Appendix A.

Policies and practices for storing, retrieving, accessing, retaining, and disposing of records in the system:

Storage:

Information contained in this system is stored manually in files.

Retrievability:

Information is retrieved in files by case number, general subject matter, or name of the subject of investigation.

Safeguards:

Case reports and workpapers are maintained in approved security containers and locked filing cabinets in a locked room. Associated paper records are stored in locked metal filing cabinets, safes, or similar secure facilities.

Retention and disposal:

Investigative Case Files 1. Case files are normally destroyed when they are 5 years old. 2. Significant cases (those that result in national media attention, congressional investigation, or substantive changes in agency policy or procedures)—To be determined by the National Archives and Records Administration on a case-by-case basis.

System manager(s) and address:

Inspector General, National Credit Union Administration, 1775 Duke Street, Alexandria, VA 22314-3428.

Notification procedure:

This System of Records is generally exempt from the notice, access, and amendment requirements of the Privacy Act. However, the NCUA will entertain written requests to the systems manager on a case by case basis for notification regarding whether this system of records contains information about an individual. Requests should be marked “Privacy Act request,” and should state the name and address of the requester, and provide a notarized statement, or other documentation, e.g., copy of a driver's license, attesting to the individual's identity. Requests submitted on behalf of other persons must include their written authorizations. Such requests in the form prescribed may also be presented in person at the Office of Inspector General, National Credit Union Administration, 1775 Duke Street, Alexandria, VA 22314-3428. Simultaneously with requesting notification of inclusion in this system of records, the individual may request record access as described in this section.

Record access procedures:

Same as “Notification procedure.”

Contesting record procedures:

Same as “Notification procedure.”

Record source categories:

The OIG collects information from many sources, including the subject individuals, employees of the NCUA, other government employees, and witnesses and informants, and non-governmental sources.

Systems exempted from certain provisions of the act:

Pursuant to 5 U.S.C. 552a(j)(2), this system of records is exempt from subsections (c)(3) and (4), (d), (e)(1), (e)(2), (e)(3), (e)(4)(G), (e)(4)(H), (e)(4)(I), (e)(5), (e)(8), (f) and (g) of the Act. This exemption applies to information in the system that relates to criminal law enforcement and meets the criteria of the (j)(2) exemption. Pursuant to 5 U.S.C. 552(k)(2), to the extent that the system contains investigative material compiled for law enforcement purposes, other than material within the scope of subsection (j)(2), this system of records is exempt from 5 U.S.C. 552a(c)(3), (d), (e)(1), (G), (H), and (I), and (f). The exemption rule is contained in 12 CFR 792.66 of the NCUA regulations.

NCUA-12

System name:

Consumer Complaints Against Federal Credit Unions.

System location:

Information is maintained in NCUA's regional offices (see Appendix B for regional office locations).

Categories of individuals covered by the system:

Persons who submit complaints concerning operating federal credit unions.

Categories of records in the system:

Complaint letters, investigation reports, and related correspondence concerning the complainants and the federal credit union involved.

Authority for maintenance of the system:

12 U.S.C. 1766(i)(1) and 1789(a)(7); 5 U.S.C. 301; 15 U.S.C. 1601-1693.

Purpose:

This system documents the number and type of consumer complaints received and processed by NCUA.

Routine uses of records maintained in the system, including categories of users and the purposes of such uses:

(1) Information may be disclosed to officials of federal credit unions and other persons mentioned in a complaint or identified during an investigation. (2) Disclosures may be made to the Federal Reserve Board, other federal financial regulatory agencies, the Federal Financial Institutions Examination Council, the White House Office of Consumer Affairs, and the Congress, or any of its authorized committees in fulfilling reporting requirements or assessing implementation of applicable laws and regulations. (Such disclosures will be made in a nonidentifiable manner when feasible and appropriate.) (3) Referrals may also be made to other federal and nonfederal supervisory or regulatory authorities when the subject matter is a complaint or inquiry which is more properly within such agency's jurisdiction. (4) Standard routine uses as set forth in Appendix A.

Policies and practices for storing, retrieving, accessing, retaining, and disposing of records in the system:

Storage:

Records are stored on paper or computer database.

Retrievability:

Records are retrievable from files by federal credit union name, by complainant name, or assigned control number.

Safeguards:

Records are maintained in secured offices in either a file cabinet or on a password protected computer system.

Retention and disposal:

Records are retained for three years and then destroyed. Consumer's name, federal credit union's name, subject of complaint, date received, and date resolved are kept until no longer needed.

System manager(s) and address:

The System Manager is the Regional Director in the regional office where the complaint was processed. (See Appendix B for Regional Office addresses.)

Notification procedure:

An individual may inquire as to whether the system contains a record pertaining to the individual by addressing a request in person or by mail to the system manager listed above. If there is no record on the individual, the individual will be so advised.

Record access procedures:

Upon request, the system manager will set forth the procedures for gaining access to available records.

Contesting record procedures:

Request to amend or correct a record should be directed to the system manager listed above.

Record source categories:

Complainant (and his or her representative, which may include, e.g., a member of Congress or an attorney); federal credit union officials; employees and members of the credit union involved; and NCUA examiners and central files on federal credit unions.

NCUA-13

System name:

Litigation Case Files.

System location:

Office of General Counsel, National Credit Union Administration, 1775 Duke Street, Alexandria, Virginia 22314-3428.

Categories of individuals covered by the system:

Records are maintained in files by the case name of individuals who are: the subject of NCUA investigations made in contemplation of legal action; involved in civil litigation with NCUA or involved in administrative proceedings; involved in litigation of interest to NCUA; or pursuing tort claims.

Categories of records in the system:

Records in case files include: Investigative reports relating to possible felonies or violations of the Federal Credit Union Act; transcripts of testimony or affidavits; documents and other evidentiary matters, pleadings and other documents filed in court; orders filed or issued in civil, administrative or criminal proceedings; correspondence relating to investigatory or litigation matters; information provided by the individual under investigation or from a federal credit union; and other memoranda gathered and prepared by staff in performance of their duties.

Authority for maintenance of the system:

12 U.S.C. 1766, 1786, 1787, and 1789; 28 U.S.C. 2671-2680.

Purpose:

This system documents the preparation and progress of legal proceedings and investigations conducted by the Office of General Counsel.

Routine uses of records maintained in the system, including categories of users and the purposes of such uses:

(1) The staff of the Office of General Counsel may use such records to render legal advice concerning investigations or courses of legal action; to represent NCUA in all judicial and administrative proceedings in which NCUA or any of its employees who, within the scope of employment and in an official capacity, is a party; or to intervene as an amicus curiae. (2) The information in this system may be disclosed to federal, state, local or professional licensing boards or Boards of Medical Examiners, when such records reflect on the qualifications or fitness of a licensed individual or an individual seeking to be licensed. (3) Standard routine uses set forth in Appendix A.

System manager(s) and address:

General Counsel, National Credit Union Administration, 1775 Duke Street, Alexandria, Virginia 22314-3428.

Notification procedure:

An individual may inquire as to whether the system contains a record pertaining to the individual by addressing a request in person or by mail to the system manager listed above. If there is no record on the individual, the individual will be so advised.

Record access procedures:

Upon request, the system manager will set forth the procedures for gaining access to available records.

Contesting record procedures:

Requests to amend or correct a record should be directed to the system manager listed above.

Record source categories:

Record source categories vary depending upon the legal issue but generally are obtained from the following: NCUA staff and internal agency memoranda; federal employees and private parties involved in torts; contracts; federal credit union files or officials; general law texts and sources; law enforcement officers; witnesses and others; administrative and court pleadings, transcripts or judicial orders/decisions; evidence gathered in connection with the matter involved; and from individuals to whom the records relate.

Systems exempted from certain provisions of the act:

This system is subject to the specific exemption provided by 5 U.S.C. 552a(k)(2), as the system of records is investigatory material compiled for law enforcement purposes.

NCUA-14

System Name:

Bank of America Electronic Access Government Ledger System (EAGLS).

System Location:

Bank of America Government Card Services (Norfolk, Virginia).

Categories of individuals covered by the system:

Employees of NCUA with individually billed government travel cards and/or centrally billed government travel cards.

Categories of records in the system:

NCUA employee credit card data, including name and address, and past and present charges to account.

Authority for maintenance of the system:

Federal Travel Regulations, Travel and Transportation Reform Act of 1998 (Pub. L. 105-264).

Purpose:

The purpose of this system is for the Office of the Chief Financial Officer (OCFO) to monitor the usage of the government travel card by NCUA employees and to assure timely payments of accounts.

Routine uses of records maintained in the system, including categories of users and purposes of such uses:

The system can be used by individual cardholders to access their own account information to monitor charges, payments, change their address, etc. It is also used by OCFO to provide oversight of the travel card program by monitoring card usage in order to reduce card misuse, abuse, and delinquencies.

Policies and practices for storing, retrieving, accessing, retaining, and disposing of records in the system:

Storage:

Records are maintained in a database that is accessible by Internet over a 128-bit encryption secure connection.

Retrievability:

Records are retrieved by name or account number.

Safeguards:

Records are maintained in a secure database that can only be accessed with a username and password provided by Bank of America after receipt of an application submitted by the OCFO. Only authorized staff in OCFO can access multiple employee records, all other employees can only access their own account information within the EAGLS system.

Retention and disposal:

All account activity (charges, payments, credits, etc.) is retained in the EAGLS system for 36 months. All information on closed accounts (name, address, activity) is retained for 36 months before it is permanently removed from the EAGLS system.

System manager(s) and address:

Deputy Financial Officer, Office of the Chief Financial Officer, National Credit Union Administration, 1775 Duke Street, Alexandria, Virginia 22314-3428.

Notification procedure:

An individual may inquire about his/her personal account information by accessing the EAGLS system with a username and password provided to them by Bank of America or by written request to OCFO.

Record access procedures:

Upon approval of the cardholder application and issuance of the government travel card by BOA, a username and password is also submitted to the cardholder for access to their account information in EAGLS.

Contesting record procedures:

Requests to amend or correct a record should be submitted online through the EAGLS system or submitted in writing to OCFO.

Record source categories:

Records are prepared by the individual whom the record concerns by submission of an application to Bank of America and by the subsequent activity to the individual's account.

NCUA-15

System Name:

Contract Employee Pay and Leave Records.

System Location:

Information within this system of records is located at the Asset Management and Assistance Center (AMAC) 4807 Spicewood Springs Road, Suite 5100, Austin TX 78759, and the payroll processor, Paychex of San Antonio, Texas.

Categories of individuals covered by the system:

Contract employees hired by the Agent for the Liquidating Agent for work on liquidation cases.

Categories of records in the system:

Wages and related payroll data, including leave records.

Authority for maintenance of the system:

Fair Labor Standards Act.

Purpose:

This system documents employee information and ensures that employees receive proper compensation.

Routine uses of records maintained in the system, including categories of users and purposes of such uses:

Information is used to document time worked and provide a record of attendance to support payment of wages and use of leave. Users of the system include the payroll officer (financial analyst), the employee's supervisor, and Paychex.

Policies and practices for storing, retrieving, accessing, retaining, and disposing of records in the system:

Storage:

Records are maintained in file folders.

Retrievability:

Records are retrieved by name.

Safeguards:

Records are maintained in a secured file cabinet, accessible only to the payroll officer and division manager.

Retention and disposal:

Records are retained and disposed of in accordance with the Fair Labor Standards Act.

System manager(s) and address:

Primary: Financial Analyst, Asset Management and Assistance Center (4807 Spicewood Springs Road, Suite 5100, Austin TX 78759).

Secondary: Division of Accounting Service Director, Asset Management and Assistance Center (4807 Spicewood Springs Road, Suite 5100, Austin TX 78759).

Notification procedure:

An individual may inquire as to whether the system contains a record pertaining to the individual by addressing a request in person or by mail to the system manager listed above. If there is no record on the individual, the individual will be so advised.

NCUA-16

System Name:

Leave Transfer Program Case Files.

System location:

Office of Human Resources, 1775 Duke Street, Alexandria, VA 22314.

Categories of individuals covered by the system:

NCUA employees who submitted applications to become leave recipients under the provisions of the Leave Transfer program.

Categories of records in the system:

Leave transfer program applications, leave requests, and medical documentation.

Authority for maintenance of the system:

5 CFR 630.913.

Purpose:

To administer the NCUA leave transfer program.

Routine uses of records maintained in the system, including categories of users and purposes of such uses:

These records are used to administer the NCUA leave transfer program.

Policies and practices for storing, retrieving, accessing, retaining, and disposing of records in the system:

Storage:

These records are maintained in file folders and filed in metal file cabinets.

Retrievability:

The records are retrieved by the names of the employee.

Safeguards:

These files are kept in a locked room and are available only to authorized personnel whose duties require access.

Retention and disposal:

These records are maintained in accordance with NARA General Records Schedules 1 (Civilian Personnel Records). Disposal of manual records is by shredding.

System manager(s) and address:

Director, Office of Human Resources, National Credit Union Administration, 1775 Duke Street, Alexandria, VA 22314.

Notification procedure:

An individual or an individual's authorized representative may inquire as to whether the system contains a record pertaining to the individual by addressing a request in person or by mail to the system manager listed above. If there is no record on the individual, the individual will be so advised.

NCUA-17

System Name:

Personal Identity Verification Files.

System Location:

Office of Human Resources, National Credit Union Administration, 1775 Duke Street, Alexandria, VA 22314.

Categories Of Individuals Covered By The System:

Individuals who require regular, ongoing access to federal facilities, information technology systems, or information classified in the interest of national security, including applicants for employment or contracts, federal employees, contractors, students, interns, volunteers, affiliates, individuals authorized to perform or use services provided in NCUA facilities and individuals formerly in any of these positions. The system also includes individuals accused of security violations or found in violation.

Categories Of Records In The System:

Name, former names, birth date, birth place, Social Security number, home address, phone numbers, employment history, residential history, education and degrees earned, names of associates and references and their contact information, citizenship, names of relatives, birthdates and places of relatives, citizenship of relatives, names of relatives who work for the federal government, criminal history, mental health history, drug use, financial information, fingerprints, summary report of investigation, results of suitability decisions, level of security clearance, date of issuance of security clearance, requests for appeal, witness statements, investigator's notes, tax return information, credit reports, security violations, circumstances of violation, and agency action taken. Copies of background investigation forms such as the SF-85, SF-85P, SF-86, or SF-87 may also be included in this file.

Authority For Maintenance Of The System:

Executive orders 10450, 10865, 12333, and 12356; sections 3301 and 9101 of title 5, U.S. Code; sections 2165 and 2201 of title 42, U.S. Code; sections 781 to 887 of title 50, U.S. Code; parts 5, 732, and 736 of title 5, Code of Federal Regulations; and Homeland Security Presidential Directive (HSPD) 12, Policy for a Common Identification Standard for Federal Employees and Contractors, August 27, 2004.

Purpose(s):

The records in this system of records are used to document and support decisions regarding clearance for access to classified information, the suitability, eligibility, and fitness for service of applicants for federal employment and contract positions, including students, interns, or volunteers to the extent their duties require access to federal facilities, information, systems, or applications. The records may be used to document security violations, employee access and attendance, and supervisory actions taken.

Routine Uses Of Records Maintained In The System, Including Categories Of Users And The Purposes Of Such Uses:

(1) The information maintained in this system is collected from PIV Applicants, the individuals to whom a PIV card is issued. The PIV Applicant may be a current or prospective Federal hire, a Federal employee or a contractor. The information is used in each step of the PIV Process for example, conducting a background investigation, completing the identity proofing and registration process, creating an employee record in the Comprehensive Human Resources Integrated System (CHRIS), issuing a PIV card and the determination of physical and logical access. Additionally, the information such as card expiration date, PIV Registrar Approval, etc. is maintained in this file and is used to assist in the production of the PIV card. (2) The information in this system may be disclosed to the United States Office of Personnel Management, the Merit Systems Protection Board, the Office of Special Counsel, the Equal Employment Opportunity Commission, the Federal Labor Relations Authority, the General Services Administration or an arbitrator or agent to the extent the disclosure is needed to carry out the government-wide personnel management, investigatory, adjudicatory and appellate functions within their respective jurisdictions, or to obtain information. (3) The information in this system may be disclosed to federal, state, local or professional licensing boards or boards of Medical Examiners, when such records reflect on the qualifications of a licensed individual or individual seeking to be licensed. (4) Standard routine uses as set forth in Appendix A.

Policies And Practice For Storing, Retrieving, Accessing, Retaining And Disposing Of Records In The System:

Storage:

Records are stored on paper and electronically in a secure location.

Retrievability:

Files are retrieved by name or Social Security number (SSN), employee name, and employee identification number.

Safeguards:

For paper records: Comprehensive paper records are kept in a secure room at NCUA Central Office, Office of Human Resources. Limited paper records may be kept at NCUA regional offices in locked file cabinets in locked rooms. Access to the records is limited to those employees who have a need for them in the performance of their official duties.

For electronic records: Comprehensive electronic records are kept at the NCUA Central Office, Office of Human Resources. Access to the records is restricted to those with a specific role in the PIV process that requires access to information to perform their duties, and who have been given a password to access that part of the system. Controls are in place to identify unauthorized access. Persons given roles in the PIV process must complete training specific to their roles to ensure they are knowledgeable about how to protect individually identifiable information. Electronic records of security badge and parking pass usage for access to the Central Office and access to parking are accessible by selected staff in the Division of Procurement and Facilities Management.

Retention And Disposal:

Records are destroyed upon notification of death or not later than five years after separation or transfer of employee to another agency, whichever is applicable.

System Manager(s) And Address:

Security Officer, Office of Human Resources, National Credit Union Administration, 1775 Duke Street, Alexandria, VA 22314.

Notification Procedure:

An individual can determine if this system contains a record pertaining to the individual by addressing a request in writing to the system manager listed above. If there is no record on the individual, the individual will be so advised.

When requesting notification of or access to records covered by this system, an individual should provide at a minimum his/her full name, date of birth, office and duty location in order to establish identity.

Records Access Procedures:

Upon request, the system manager will set forth the procedures for gaining access to available records.

Contesting Record Procedures:

Requests to amend or correct a record should be directed to the system manager listed above. Requesters should also reasonably identify the record, specify the information they are contesting, state the corrective action sought and the reasons for the correction along with supporting justification showing why the record is not accurate, timely, relevant, or complete.

Record Source Categories:

Information is obtained from a variety of sources including the employee, contractor, or applicant via use of the SF-85, SF-85P, or SF-86 and personal interviews; employers' and former employers' records; FBI criminal history records and other databases; financial institutions and credit reports; medical records and health care providers; educational institutions; interviews of witnesses such as neighbors, friends, co-workers, business associates, teachers, landlords, or family members; tax records; and other public records. Security violation information is obtained from a variety of sources, such as witnesses or supervisor's reports. Electronic records are created based on use of security badges and parking passes at readers at entrances and exits to parking at the Central Office, building entrances, and building elevators.

Appendix A—Standard Routine Uses Applicable to NCUA Systems of Records

1. If a record in a system of records indicates a violation or potential violation of civil or criminal law or a regulation, and whether arising by general statute or particular program statute, or by regulation, rule, or order, the relevant records in the system or records may be disclosed as a routine use to the appropriate agency, whether federal, state, local, or foreign, charged with the responsibility of investigating or prosecuting such violation or charged with enforcing or implementing the statute, rule, regulation, or order issued pursuant thereto.

2. A record from a system of records may be disclosed as a routine use to a federal, state, or local agency which maintains civil, criminal, or other relevant enforcement information or other pertinent information, such as current licenses, if necessary, to obtain information relevant to an agency decision concerning the hiring or retention of an employee, the issuance of a security clearance, the letting of a contract, or the issuance of a license, grant, or other benefit.

3. A record from a system of records may be disclosed as a routine use to a federal agency, in response to its request, for a matter concerning the hiring or retention of an employee, the issuance of a security clearance, the reporting of an investigation of an employee, the letting of a contract, or the issuance of a license, grant, or other benefit by the requesting agency, to the extent that the information is relevant and necessary to the requesting agency's decision in the matter.

4. A record from a system of records may be disclosed as a routine use to an authorized appeal grievance examiner, formal complaints examiner, equal employment opportunity investigator, arbitrator or other duly authorized official engaged in investigation or settlement of a grievance, complaint, or appeal filed by an employee. Further, a record from any system of records may be disclosed as a routine use to the Office of Personnel Management in accordance with the agency's responsibility for evaluation and oversight of federal personnel management.

5. A record from a system of records may be disclosed as a routine use to officers and employees of a federal agency for purposes of audit.

6. A record from a system of records may be disclosed as a routine use to a member of Congress or to a congressional staff member in response to an inquiry from the congressional office made at the request of the individual about whom the record is maintained.

7. A record from a system of records may be disclosed as a routine use to the officers and employees of the General Services Administration (GSA) in connection with administrative services provided to this Agency under agreement with GSA.

8. Records in a system of records may be disclosed as a routine use to the Department of Justice, when: (a) NCUA, or any of its components or employees acting in their official capacities, is a party to litigation; or (b) Any employee of NCUA in his or her individual capacity is a party to litigation and where the Department of Justice has agreed to represent the employee; or (c) The United States is a party in litigation, where NCUA determines that litigation is likely to affect the agency or any of its components, is a party to litigation or has an interest in such litigation, and NCUA determines that use of such records is relevant and necessary to the litigation, provided, however, that in each case, NCUA determines that disclosure of the records to the Department of Justice is a use of the information contained in the records that is compatible with the purpose for which the records were collected.

9. Records in a system of records may be disclosed as a routine use in a proceeding before a court or adjudicative body before which NCUA is authorized to appear (a) when NCUA or any of its components or employees are acting in their official capacities; (b) where NCUA or any employee of NCUA in his or her individual capacity has agreed to represent the employee; or (c) where NCUA determines that litigation is likely to affect the agency or any of its components, is a party to litigation or has an interest in such litigation, and NCUA determines that use of such records is relevant and necessary to the litigation, provided, however, NCUA determines that disclosure of the records to the Department of Justice is a use of the information contained in the records that is compatible with the purpose for which the records were collected.

Appendix B—List of Regional Offices with Addresses and States Covered by Each Region

NCUA Region I Regional Office: 9 Washington Square, Washington Square Extension, Albany, NY, 12205, Phone (518) 472-4554. States covered: Connecticut, Maine, Massachusetts, Michigan, New Hampshire, New York, Rhode Island, and Vermont.

NCUA Region II Regional Office: 1775 Duke Street, Suite 4206, Alexandria, VA 22314, Phone: (703) 519-4600. States covered: Delaware, District Of Columbia, Maryland, New Jersey, Pennsylvania, Virginia, and West Virginia.

NCUA Region III Regional Office: 7000 Central Parkway, Suite 1600, Atlanta, GA 30328, Phone: (678) 443-3000. States covered: Alabama, Florida, Georgia, Indiana, Kentucky, Mississippi, North Carolina, Puerto Rico, Ohio, South Carolina, Tennessee, and Virgin Islands.

NCUA Region IV Regional Office: 4807 Spicewood Springs Road, Suite 5200, Austin, TX 78759, Phone: (512) 342-5600. States covered: Arkansas, Illinois Iowa, Kansas, Louisiana, Minnesota, Missouri, Nebraska, North Dakota, Oklahoma, South Dakota, Texas, and Wisconsin.

NCUA Region V Regional Office: 1230 West Washington Street, Suite 301, Tempe, AZ 85281, Phone: (602) 302-6000. States covered: Alaska, Arizona, California, Colorado, Guam, Hawaii, Idaho, Montana, Nevada, Oregon, Utah, Washington, and Wyoming.

By the National Credit Union Administration Board on December 20, 2006.
Mary F. Rupp,
Secretary of the Board.

[FR Doc. E6-22101 Filed 12-26-06; 8:45 am]

BILLING CODE 7535-01-P